DEPARTMENT OF HOUSING AND URBAN DEVELOPMENT

[Docket No. FR-5125-N-43]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7262, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, Attn: DAIM-ZS, Rm 8536, 2511 Jefferson Davis Hwy., Arlington, VA 22202; (703) 601-2545; GSA: Mr. John E.B. Smith, Deputy Assistant Commissioner, General Services Administration, Office of Property Disposal, 18th and F Streets, NW., Washington, DC 20405; (202) 501-0084; INTERIOR: Mr. Michael Wright, Acquisition & Property Management, Department of the Interior, 1849 C Street, NW., MS2603, Washington, DC 20240; (202) 513-0747; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: October 18, 2007.
Mark R. Johnston,
Deputy Assistant Secretary for Special Needs.

Title V, Federal Surplus Property Program

Suitable/Available Properties

Building

Massachusetts

Federal Office Bldg

Main & Bridge St.

Springfield, MA 01101

Landholding Agency: GSA

Property Number: 54200740002

Status: Excess

GSA Number: MA-6262-1

Comments: 30,000 sq. ft., 27% occupied, recommend complete system upgrade.

Montana

Sonstelie Hall USARC

1110 2nd St.

Kalispell, MT 59901-4202

Landholding Agency: GSA

Property Number: 54200740003

Status: Excess

GSA Number: 7-D-MT-0625

Comments: 14,635 sq. ft., most recent use—admin/classrooms/storage, subject to easements.

Suitable/Available Properties

Building

Samoa

Unit #25

Lima & FA Streets

Tafuna, AQ

Landholding Agency: GSA

Property Number: 54200740001

Status: Surplus

GSA Number: 9-U-AS-002AB

Comments: 1722 sq. ft., presence of lead paint, most recent use—residential, off-site use only or negotiate ground lease with local govt.

Land

Arizona

Portion Tract GR-11-20

Detention Basin

Phoenix, AZ 85050

Landholding Agency: Interior

Property Number: 61200740001

Status: Excess

Comments: 3.28 acres, road constructed Summary for Suitable/Available Properties.

Total number of Properties = 4.

Unsuitable Properties

Building

Arizona

Bldgs. M5218, M5219, M5222

Papago Park Military Rsv.

Phoenix, AZ 85008

Landholding Agency: Army

Property Number: 21200740001

Status: Unutilized

Reasons: Within airport runway clear zone. Secured Area.Extensive deterioration.

4 Bldgs.

Papago Park Military Rsv.

M5234, M5238, M5242, M5247

Phoenix, AZ 85008

Landholding Agency: Army

Property Number: 21200740002

Status: Unutilized

Reasons: Within airport runway clear zone. Secured Area.Extensive deterioration.

Bldg. 1509

National Park

Grand Canyon, AZ 86023

Landholding Agency: Interior

Property Number: 61200740002

Status: Unutilized

Reasons: Extensive deterioration.

Unsuitable Properties

Building

California

Bldg. 800

National Park

Yosemite, CA 95389

Landholding Agency: Interior

Property Number: 61200740003

Status: Unutilized

Reasons: Extensive deterioration.

Bldgs. 124, 148

Naval Air Station

North Island, CA

Landholding Agency: Navy

Property Number: 77200740002

Status: Excess

Reasons: Secured Area.

Bldgs. 314, 341, 636

Naval Air Station

North Island, CA

Landholding Agency: Navy

Property Number: 77200740003

Status: Excess

Reasons: Secured Area.

Bldgs. 710, 802, 826

Naval Air Station

North Island, CA

Landholding Agency: Navy

Property Number: 77200740004

Status: Excess

Reasons: Secured Area.

Unsuitable Properties

Building

California

Bldgs. 60139, 60180

Naval Air Station

San Clemente, CA

Landholding Agency: Navy

Property Number: 77200740005

Status: Excess

Reasons: Secured Area.

Bldgs. 41313, 41314

Marine Corps Base

Camp Pendleton, CA 92055

Landholding Agency: Navy

Property Number: 77200740006

Status: Excess

Reasons: Secured Area. Extensive deterioration.

4 Bldgs.

Marine Corps Base, 41359, 41362, 41365, 41366

Camp Pendleton, CA 92055

Landholding Agency: Navy

Property Number: 77200740007

Status: Excess

Reasons: Secured Area. Extensive deterioration.

Unsuitable Properties

Building

California

Bldg. 43976

Marine Corps Base

Camp Pendleton, CA 92055

Landholding Agency: Navy

Property Number: 77200740008

Status: Excess

Reasons: Secured Area. Extensive deterioration.

Bldgs. 53440, 53831

Marine Corps Base

Camp Pendleton, CA 92055

Landholding Agency: Navy

Property Number: 77200740009

Status: Excess

Reasons: Secured Area. Extensive deterioration.

Bldg. 410365

Marine Corps Base

Camp Pendleton, CA 92055

Landholding Agency: Navy

Property Number: 77200740010

Status: Excess

Reasons: Secured Area. Extensive deterioration.

Unsuitable Properties

Building

Colorado

Bldgs. S6231, S6232

Fort Carson

El Paso, CO 80913

Landholding Agency: Army

Property Number: 21200740003

Status: Unutilized

Reasons: Secured Area.

Bldgs. S6234, S6250

Fort Carson

El Paso, CO 80913

Landholding Agency: Army

Property Number: 21200740004

Status: Unutilized

Reasons: Secured Area.

Georgia

Bldg. 8562

Fort Benning

Ft. Benning, GA 31905

Landholding Agency: Army

Property Number: 21200740005

Status: Unutilized

Reasons: Extensive deterioration.

Unsuitable Properties

Building

Georgia

4 Bldgs.

Fort Benning, 8668, 8684, 8685, 8764

Ft. Benning, GA 31905

Landholding Agency: Army

Property Number: 21200740006

Status: Unutilized

Reasons: Extensive deterioration.

Bldgs. 00956, 00958, 00966

Fort Stewart

Hinesville, GA 31314

Landholding Agency: Army

Property Number: 21200740007

Status: Excess

Reasons: Extensive deterioration.

Hawaii

Facilities 00001, 00002

Tanapag USARC

Tanapag, HI

Landholding Agency: Army

Property Number: 21200740008

Status: Unutilized

Reasons: Extensive deterioration.

Unsuitable Properties

Building

Hawaii

Bldg. 01284

Schofield Barracks

Wahiawa, HI 96786

Landholding Agency: Army

Property Number: 21200740009

Status: Unutilized

Reasons: Secured Area.

Bldgs. A2138, A2139

Schofield Barracks

Wahiawa, HI 96786

Landholding Agency: Army

Property Number: 21200740010

Status: Unutilized

Reasons: Secured Area.

Bldgs. 02137, E2138

Schofield Barracks

Wahiawa, HI 96786

Landholding Agency: Army

Property Number: 21200740011

Status: Unutilized

Reasons: Secured Area.

Bldgs. 02141, 02145

Schofield Barracks

Wahiawa, HI 96786

Landholding Agency: Army

Property Number: 21200740012

Status: Unutilized

Reasons: Secured Area.

Unsuitable Properties

Building

Kansas

Bldgs. 00111, 00417

Fort Leavenworth

Leavenworth, KS 66027

Landholding Agency: Army

Property Number: 21200740013

Status: Unutilized

Reasons: Extensive deterioration.

Kentucky

Bldgs. 01481, 06153, 06154

Fort Knox

Ft Knox, KY 40121

Landholding Agency: Army

Property Number: 21200740014

Status: Unutilized

Reasons: Extensive deterioration.

Maryland

Bldgs. E3850, E5699, E6882

Aberdeen Proving Ground

Harford, MD 21005

Landholding Agency: Army

Property Number: 21200740015

Status: Unutilized

Reasons: Secured Area.

Unsuitable Properties

Building

Maryland

4 Bldgs., Fort Meade, 2630, 4717, 4720, 4721

Anne Arundel, MD 20755

Landholding Agency: Army

Property Number: 21200740016.

Status: Unutilized.

Reasons: Secured Area.

Montana

4 Bldgs., Ft. Harrison, 0003A, T0003, T0024, T0562, Lewis & Clark, MT 59636.

Landholding Agency: Army

Property Number: 21200740018.

Status: Unutilized.

Reasons: Extensive deterioration.

New Jersey

5 Bldgs., Fort Dix, 02510, 02511, 2512, 2515, 9656, Burlington, NJ 08640.

Landholding Agency: Army

Property Number: 21200740019.

Status: Unutilized.

Reasons: Extensive deterioration.

Unsuitable Properties

Building

North Carolina

Bldg. P3839, Fort Bragg, Cumberland, NC 28310.

Landholding Agency: Army

Property Number: 21200740020

Status: Unutilized

Reasons: Extensive deterioration. Secured Area.

Bldgs. P6382, P6383, P6384

Fort Bragg

Cumberland, NC 28310

Landholding Agency: Army

Property Number: 21200740021

Status: Unutilized

Reasons: Extensive deterioration. Secured Area.

Bldgs. P6482, P6483, P6484

Fort Bragg

Cumberland, NC 28310

Landholding Agency: Army

Property Number: 21200740022

Status: Unutilized.

Reasons: Secured Area. Extensive deterioration.

Unsuitable Properties

Building

North Carolina

Bldg. 82105

Fort Bragg

Cumberland, NC 28310

Landholding Agency: Army

Property Number: 21200740023

Status: Unutilized

Reasons: Secured Area. Extensive deterioration.

Bldg. 247

Marine Corps Air Station

Cherry Point, NC

Landholding Agency: Navy

Property Number: 77200740001

Status: Unutilized

Reasons: Extensive deterioration. Secured Area.

Oklahoma

Bldgs. 0008A, 0008B

McAlester AAP

Pittsburg, OK 74501

Landholding Agency: Army

Property Number: 21200740024

Status: Excess

Reasons: Secured Area. Within 2000 ft. of flammable or explosive material.

Unsuitable Properties

Building

Oklahoma

4 Bldgs.

McAlester AAP, 00137, 00484, 00674, 00717

Pittsburg, OK 74501

Landholding Agency: Army

Property Number: 21200740025

Status: Excess

Reasons: Secured Area. Within 2000 ft. of flammable or explosive material.

Pennsylvania

Bldg. 00301

Carlisle Barracks

Cumberland, PA 17013

Landholding Agency: Army

Property Number: 21200740026

Status: Unutilized

Reasons: Extensive deterioration.

Puerto Rico

Sectors #42, #44

Natl Historic Site

San Miguel, PR

Landholding Agency: Interior

Property Number: 61200740004

Status: Unutilized

Reasons: Extensive deterioration.

Unsuitable Properties

Building

Tennessee

Bldg. F0013

Milan AAP

Gibson, TN 38358

Landholding Agency: Army

Property Number: 21200740027

Status: Excess

Reasons: Within 2000 ft. of flammable or explosive material. Secured Area. Extensive deterioration.

Bldgs. W0055, W0058

Milan AAP

Gibson, TN 38358

Landholding Agency: Army

Property Number: 21200740028

Status: Excess

Reasons: Extensive deterioration. Within 2000 ft. of flammable or explosive material. Secured Area.

Bldg. F0100

Milan AAP

Gibson, TN 38358

Landholding Agency: Army

Property Number: 21200740029

Status: Excess

Reasons: Within 2000 ft. of flammable or explosive material. Secured Area. Extensive deterioration.

Unsuitable Properties

Building

Texas

Bldg. 1235

Fort Bliss

El Paso, TX 79916

Landholding Agency: Army

Property Number: 21200740030

Status: Unutilized

Reasons: Secured Area. Extensive deterioration.

Virginia

Bldgs. US042, US044, US45B

Radford AAP

Montgomery, VA 24013

Landholding Agency: Army

Property Number: 21200740031

Status: Underutilized

Reasons: Within 2000 ft. of flammable or explosive material. Secured Area.

Bldg. 01001

Radford AAP

Montgomery, VA 24013

Landholding Agency: Army

Property Number: 21200740032

Status: Underutilized

Reasons: Within 2000 ft. of flammable or explosive material. Secured Area.

Unsuitable Properties

Building

Virginia

Bldgs. 1332, 1529

Fort Lee

Prince George, VA 23801

Landholding Agency: Army

Property Number: 21200740033

Status: Unutilized

Reasons: Extensive deterioration.

5 Bldgs.

Fort Lee

07103, 07104, 07107, 07108, 07109

Prince George, VA 23801

Landholding Agency: Army

Property Number: 21200740034

Status: Unutilized

Reasons: Extensive deterioration.

6 Bldgs.

Fort Lee

Prince George, VA 23801

Landholding Agency: Army

Property Number: 21200740035

Status: Unutilized

Directions: 07110, 07112, 07114, 07121, 07122, 07126

Reasons: Extensive deterioration.

Unsuitable Properties

Building

Virginia

6 Bldgs.

Defense Supply Center

Richmond, VA 23297

Landholding Agency: Army

Property Number: 21200740036

Status: Unutilized

Directions: 00170, 00171, 00172, 00173, 00174, 00175

Reasons: Secured Area.

Bldgs. 00429, 01728, 01734

Fort Eustis

Ft. Eustis VA 23604

Landholding Agency: Army

Property Number: 21200740037

Status: Unutilized

Reasons: Extensive deterioration.

Washington

Bldgs. 62, 63

Yakima, WA 98944

Landholding Agency: Interior

Property Number: 61200740005

Status: Unutilized

Reasons: Extensive deterioration.

Unsuitable Properties

Building

Washington

5 Bldgs., 74, 75, 77, 78, 79

Yakima, WA 98944

Landholding Agency: Interior

Property Number: 61200740006

Status: Unutilized

Reasons: Extensive deterioration.

Wisconsin

Bldgs. R031I. R031S

Fort McCoy, Monroe WI 54656

Landholding Agency: Army

Property Number: 21200740038

Status: Unutilized

Reasons: Extensive deterioration.

Bldgs. 01092, 01093, 01094

Fort McCoy

Monroe, WI 54656

Landholding Agency: Army

Property Number: 21200740039

Status: Unutilized

Reasons: Extensive deterioration.

Unsuitable Properties

Land

Maryland

Approx. 1 Acre

Fort Meade

Anne Arundel, MD 20755

Landholding Agency: Army

Property Number: 21200740017

Status: Unutilized

Reasons: Other—no public access.

Summary for Unsuitable Properties

Total number of Properties = 133

Summary of All Properties

Suitable/Available Properties = 4

Suitable/Unavailable Properties = 0

Suitable/To Be Excessed = 0

* * Suitable/Undefined * * = 0

Total Suitable = 4

Total Unsuitable = 133

Total number of Properties = 137

Properties Resubmitted = 0

[FR Doc. E7-20858 Filed 10-25-07; 8:45 am]

BILLING CODE 4210-67-P